DELAWARE RIVER BASIN COMMISSION

Request for Existing Water Quality Data to Support Development of the 2010 Delaware River and Bay Integrated List Water Quality Assessment Report in Accordance With Section 305(b) of the Federal Clean Water Act

AGENCY: Delaware River Basin Commission (DRBC).

ACTION: Request for water quality data.

SUMMARY: The DRBC is soliciting readily available water quality data collected between January 1, 2005 and September 30, 2009 for use in development of DRBC's 2010 Delaware River and Bay Integrated List Water Quality Assessment Report (Integrated Report). The Integrated Report fulfills the biennial reporting requirement of sections 305(b) of the Federal Clean Water Act (CWA). It identifies water quality standards attained, documents the availability of data and information for each water quality zone, identifies certain trends in water quality conditions, and sets priorities for protecting and restoring the health of the main stem Delaware River and Delaware Bay. The four basin states—New York, Pennsylvania, New Jersey and Delaware—will consider the Integrated Report in developing their lists of impaired waters in accordance with section 303(d) of the CWA. DRBC plans to submit the draft 2010 Integrated Report to USEPA by April 2010.

DATES: DRBC must receive data submissions on or before August 31, 2009.

ADDRESSES: Mail submissions to Erin McCracken, Water Resource Planner, Delaware River Basin Commission, P.O. Box 7360, 25 State Police Drive, West Trenton, NJ 08628-0360; fax to Attn: Erin McCracken, Delaware River Basin Commission, 609-883-9522; or send electronic submissions to erin.mccracken@drbc.state.nj.us. See SUPPLEMENTARY INFORMATION for proper labeling of submissions.

SUPPLEMENTARY INFORMATION:

Types of Data. The following types of data are requested: data relating to aquatic life: dissolved oxygen (DO), turbidity, temperature, pH, total dissolved solids (TDS), alkalinity, toxic pollutants, macroinvertebrate data and fish tissue data; data relating to drinking water uses: dissolved oxygen (DO), turbidity, temperature, pH, total dissolved solids (TDS), chlorides, hardness, odor, phenols, sodium (Na), turbidity, systematic toxicants, carcinogens and drinking water closures; and data relating to recreational uses: fecal coliform and enterococcus.

Data for Use in Future Reports. Data collected after September 30, 2009 or submitted after August 31, 2009 may be considered for subsequent integrated reports prepared by the DRBC.

Most Recent Integrated Report. The 2008 Delaware River and Bay Integrated List Water Quality Assessment Report is available at www.state.nj.us/drbc/08IntegratedList/index.htm.

Proper Labeling of Submissions. Please use 2010 REPORT DATA in the subject line for all data submissions.

FOR FURTHER INFORMATION CONTACT: John Yagecic, Supervisor, Standards and Assessment Section, DRBC, 609-883-9500 ext. 271, john.yagecic@drbc.state.nj.us.

Dated: March 19, 2009.
Pamela M. Bush,
Commission Secretary & Assistant General Counsel.

[FR Doc. E9-6556 Filed 3-24-09; 8:45 am]

BILLING CODE 6360-01-P